DEPARTMENT OF ENERGY

[OE Docket No. PP-230-4]

Notice of Extension of Comment Period; International Transmission Company, d/b/a ITC Transmission

AGENCY: Office of Electricity Delivery and Energy Reliability, DOE.

ACTION: Notice of Extension of Comment Period.

SUMMARY: International Transmission Company, d/b/a ITCTransmission (ITC), filed a request to extend the comment period on its supplemental filing of operational documents in an ongoing Presidential permit proceeding regarding the ITC application to amend Presidential Permit No. PP-230-3.

DATES: Comments must be submitted and received by DOE on or before October 14, 2011.

ADDRESSES: Comments should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by e-mail to Christopher.Lawrence@hq.doe.gov.

SUPPLEMENTARY INFORMATION: On January 5, 2009, ITC applied to the DOE to amend Presidential Permit No. PP-230-3 by authorizing ITC to replace a failed 675-MVA transformer with two 700-MVA phase-shifting transformers connected in series at ITC's Bunce Creek Station in Marysville, Michigan.

DOE issued a notice of ITC's application in the Federal Register on February 10, 2009 (74 FR 6607), requesting that any comments, protests, or motions to intervention be filed by March 12, 2009. Numerous responsive documents were filed, including late requests to intervene. The filings raised various issues, including the need to review the operational protocols for the facilities with the installation of the new transformers, also known as phase angle regulators (PARs).

On August 9, 2011, DOE received Supplemental Reply Comments from ITC, which completed the ITC response to earlier comments filed in the proceeding by the Midwest Independent Transmission System Operator (MISO), Inc. and the Independent Electricity System Operator of Ontario. According to ITC, the supplemental filing provided the operational agreements required to complete ITC's application in the amendment proceeding, including a letter of agreement between ITC and MISO assigning functional control of the subject facilities at the Bunce Creek Station to MISO.

ITC requested that DOE accept this filing as sufficient to allow DOE to approve its application to amend the ITC Presidential permit on an expedited basis without further notice so that the transformers can be placed into service and benefits from controlling the Lake Erie loop flow can begin. ITC has also indicated that placing the PARs into service now will also allow the parties to better assess the various impacts of PARs operations and thus, better determine if the current operational procedures would need to be modified.

DOE issued a notice in the Federal Register on August 18, 2011 (76 FR 52945) inviting comments from prior participants in the proceeding and other interested persons on the ITC supplemental filing until September 23, 2011. Specifically, DOE was interested in obtaining the views of other affected utilities and system operators on the sufficiency of the operating principles provided by ITC.

On September 15, 2011 ITC filed a motion to extend the current comment period on its supplemental filing for three additional weeks until October 14, 2011, in order to allow more time for the parties in the case to finalize ongoing settlement discussions. Therefore, DOE is granting an extension of the current comment period on the ITC supplemental filing until October 14, 2011.

Procedural Matters: Any person desiring to be heard in response to this notice should file written comments with DOE. Five copies of such comments should be sent to the address provided above on or before the date listed above.

Additional copies of such petitions to intervene or protests also should be filed directly with: Stephen J. Videto, ITCTransmission, 27175 Energy Way, Novi, MI 48377 and John R. Staffier, Stuntz, Davis & Staffier, P.C., 555 Twelfth Street, NW., Suite 630, Washington, DC 20004.

All of the documents filed in the OE Docket No. PP-230-4 proceeding may be viewed by going to the Pending Applications page at http://energy.gov/node/11845 on the DOE Web site and scrolling to the PP-230-4 section under Pending Presidential Permit Applications.

Issued in Washington, DC, on September 21, 2011.
Brian Mills,
Director, Permitting and Siting, Office of Electricity Delivery and Energy Reliability.

[FR Doc. 2011-24782 Filed 9-26-11; 8:45 am]

BILLING CODE 6450-01-P